DEPARTMENT OF COMMERCE

National Oceanic and Atmospheric Administration

RIN 0648-XM52

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held January 26-29, 2009.

ADDRESSES: The meetings will be held at the Hollywood Casino, 711 Hollywood Blvd., Bay St. Louis, MS 39520.

Council address: Gulf of Mexico Fishery Management Council, 2203 North Lois Avenue, Suite 1100, Tampa, FL 33607.

FOR FURTHER INFORMATION CONTACT: Richard Leard, Interim Executive Director, Gulf of Mexico Fishery Management Council; telephone: (813) 348-1630.

SUPPLEMENTARY INFORMATION:

Council

Wednesday, January 28, 2009

The Council meeting will begin at 1 p.m. with a review of the agenda and minutes. From 1:15 p.m. - 5:30 p.m., the Council will receive public testimony on exempted fishing permits (EFPs), if any; the Final Aquaculture Fishery Management Plan (FMP), Final Reef Fish Amendment 29; and hold an Open Public Comment Period regarding any fishery issue of concern. People wishing to speak before the Council should complete a public comment card prior to the comment period. From 5:30 p.m. - 6:30 p.m., the Council will review and discuss the report of the Joint Reef Fish/Mackerel/Red Drum Committee.

Thursday, January 29, 2009

From 8:30 a.m. - 12 p.m. and 1:30 p.m. - 4:30 p.m., the Council will continue to review and discuss reports from the committee meetings as follows: Ad Hoc Allocation; Reef Fish Management; Mackerel Management; Joint Scientific and Statistical Committee (SSC) Selection/Administrative Policy; Southeast Data and Review (SEDAR) Selection; Shrimp Management; Habitat Protection and Sustainable Fisheries/Ecosystem. From 4:30 p.m. - 4:45 p.m., the Council will Review/Approve the South Atlantic Fishery Management Council (SAFMC) Comprehensive Ecosystem-Based Amendment. Other Business items will follow from 4:45 p.m. - 5:15 p.m. The Council will conclude its meeting at approximately 5:15 p.m.

Committees

Monday, January 26, 2009

8:30 a.m. - 9 a.m. - CLOSED SESSION - The SEDAR Selection Committee and Full Council will meet to select participants for the Gag and Red Grouper SEDAR Assessment Update and the Black Grouper Data Workshop.

9 a.m. - 12 p.m. - CLOSED SESSION - The Budget/Personnel and Full Council will Interview and select the Executive Director.

1:30 p.m. - 2:30 p.m. - The Ad Hoc Allocation Committee will meet to discuss the Allocation Policy and the next steps.

2:30 p.m. - 5:30 p.m. - The Joint Reef Fish/Mackerel/Red Drum Management Committee will meet to discuss the Final Aquaculture FMP.

5:30 p.m. - 6 p.m. - The Sustainable Fisheries/Ecosystem Committee will meet to receive a status report on the Generic Annual Catch Limit/Accountability Measures (ACL/AM) Amendment.

Tuesday, January 27, 2009

8:30 am - 12 p.m. and 1:30 p.m. - 3 p.m. - The Reef Fish Management Committee will meet to discuss the Options Paper on Amendment/Regulatory Amendment and Draft Environmental Impact Statement (DEIS) to address Longline/Turtle Interactions; Results of Referendum and Final Action on Reef Fish Amendment 29; White Paper on Pros and Cons of Red Snapper For-Hire Sector Management; and Consideration of (re)allocation Issues for those Species in Reef Fish Amendments 30A and 30B using the Allocation Policy. The committee will also receive a presentation on a device to reduce release mortality and may discuss goliath grouper activities.

3 p.m. - 4 p.m. - The Habitat Protection Committee will discuss summaries of the Habitat Protection Advisory Panel (AP) Meetings.

4 p.m. - 6:30 p.m. - The Mackerel Management Committee will meet to discuss the King Mackerel Stock Assessment as well as SSC and Mackerel AP recommendations and consider future management strategies.

6:30 p.m. - 7:30 p.m. - There will be an Informal Open Public Question and Answer Session.

Wednesday, January 28, 2009

8:30 a.m. - 9 a.m. - The Shrimp Management Committee will meet to review the results of the 2008 Cooperative Texas Closure and consider recommendations for 2009.

9 a.m. - 11:30 a.m. - The Joint SSC Selection/Administrative Policy Committee will meet to discuss the National SSC Report; Council policies in Statement of Organization Practices and Procedures (SOPPs); and consideration of disbanding the Operator Permits Committee.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina O'Hern at the Council (see ADDRESSES) at least 5 working days prior to the meeting.

Dated: December 31, 2008.
Tracey L. Thompson,
Acting Director, Office of Sustainable Fisheries, National Marine Fisheries Service.

[FR Doc. E8-31438 Filed 1-5-08; 8:45 am]

BILLING CODE 3510-22-S